DEPARTMENT OF ENERGY

Federal Energy Regulatory Commission

Combined Notice of Filings #1

Take notice that the Commission received the following electric rate filings:

Docket Numbers: ER10-1533-013; ER10-2374-012.

Applicants: Puget Sound Energy, Inc., Macquarie Energy LLC.

Description: Second Supplement to June 30, 2016 Updated Market Power Analysis for the Northwest Region of Puget Sound Energy, Inc., et al.

Filed Date: 6/23/17.

Accession Number: 20170623-5171.

Comments Due: 5 p.m. ET 7/14/17.

Docket Numbers: ER10-2822-010; ER16-1250-002; ER11-2112-008; ER10-2828-004; ER10-2285-006; ER16-2285-002; ER10-2423-008; ER10-2404-008; ER10-2812-014; ER10-1291-021; ER10-2843-013; ER12-2649-004; ER10-1725-004; ER10-3001-005; ER10-3002-004; ER10-3004-005; ER12-422-006; ER10-2301-004; ER10-3010-004; ER10-2306-004;ER12-96-006; ER10-3031-004;ER10-3160-003; ER16-1637-002.

Applicants: Atlantic Renewable Projects II LLC, Blue Creek Wind Farm LLC, Casselman Windpower LLC, Central Maine Power Company, Desert Wind Farm LLC, Flat Rock Windpower LLC, Flat Rock Windpower II LLC, GenConn Devon LLC, GenConn Energy LLC, GenConn Middletown LLC, Groton Wind, LLC, Hardscrabble Wind Power LLC, Lempser Wind, LLC, Locust Ridge Wind Farm, LLC, Locust Ridge II, LLC, New England Wind, LLC, New York State Electric & Gas Corporation, Rochester Gas and Electric Corporation, South Chestnut LLC, Streator-Cayuga Ridge Wind Power LLC, The United Illuminating Company, UIL Distributed Resources, LLC, Providence Heights Wind, LLC, Avangrid Renewables, LLC.

Description: Response to May 11, 2017 Letter requesting additional information of AVANGRID Northeast MBR Sellers.

Filed Date: 6/26/17.

Accession Number: 20170626-5081.

Comments Due: 5 p.m. ET 7/17/17.

Docket Numbers: ER11-2534-006; ER12-539-008; ER12-540-008; ER16-2234-002.

Applicants: APDC, Inc., Atlantic Power Energy Services (US) LLC, EF Kenilworth LLC, Morris Cogeneration, LLC.

Description: Updated Market Power Analysis for the Northeast Region of APDC, Inc., et al.

Filed Date: 6/23/17.

Accession Number: 20170623-5090.

Comments Due: 5 p.m. ET 8/22/17.

Docket Numbers: ER17-1494-001.

Applicants: Vista Energy Storage, LLC.

Description: Tariff Amendment: Amendment to Application for Market-Based Rate Authorization to be effective 7/1/2017.

Filed Date: 6/26/17.

Accession Number: 20170626-5102.

Comments Due: 5 p.m. ET 7/17/17.

Docket Numbers: ER17-1508-001.

Applicants: Golden Spread Electric Cooperative, Inc.

Description: Tariff Amendment: OATT Attachment R Amendment Clarification to be effective 7/1/2017.

Filed Date: 6/26/17.

Accession Number: 20170626-5103.

Comments Due: 5 p.m. ET 7/17/17.

Docket Numbers: ER15-1905-006.

Applicants: Amazon Energy LLC.

Description: Triennial Market Power Update for the Northeast Region of Amazon Energy LLC.

Filed Date: 6/23/17.

Accession Number: 20170623-5168.

Comments Due: 5 p.m. ET 8/22/17.

Docket Numbers: ER17-1893-000.

Applicants: Cricket Valley Energy Center, LLC.

Description: Petition for Limited Waiver of Tariff Deadline and Request for Expedited Action of Cricket Valley Energy Center, LLC.

Filed Date: 6/23/17.

Accession Number: 20170623-5095.

Comments Due: 5 p.m. ET 7/14/17.

Docket Numbers: ER17-1897-000.

Applicants: Southwest Power Pool, Inc.

Description: § 205(d) Rate Filing: Attachment AE Clean-Up Filing to be effective 3/1/2014.

Filed Date: 6/26/17.

Accession Number: 20170626-5046.

Comments Due: 5 p.m. ET 7/17/17.

Docket Numbers: ER17-1898-000.

Applicants: Southwest Power Pool, Inc.

Description: § 205(d) Rate Filing: 2041R6 Kansas City Board of Public Utilities PTP Agreement to be effective 9/1/2017.

Filed Date: 6/26/17.

Accession Number: 20170626-5066.

Comments Due: 5 p.m. ET 7/17/17.

Docket Numbers: ER17-1899-000.

Applicants: San Diego Gas & Electric Company.

Description: Annual Filing of Revised Costs and Accruals for Post-Employment Benefits Other than Pensions of San Diego Gas & Electric Company.

Filed Date: 6/26/17.

Accession Number: 20170626-5071.

Comments Due: 5 p.m. ET 7/17/17.

Docket Numbers: ER17-1900-000.

Applicants: Southwest Power Pool, Inc.

Description: § 205(d) Rate Filing: 1636R19 Kansas Electric Power Cooperative, Inc. NITSA and NOA to be effective 9/1/2017.

Filed Date: 6/26/17.

Accession Number: 20170626-5089.

Comments Due: 5 p.m. ET 7/17/17.

Docket Numbers: ER17-1901-000.

Applicants: Duke Energy Progress, LLC.

Description: Tariff Cancellation: DEP SA Cancellation Filing to be effective 6/27/2017.

Filed Date: 6/26/17.

Accession Number: 20170626-5104.

Comments Due: 5 p.m. ET 7/17/17.

Docket Numbers: ER17-1902-000.

Applicants: Brayton Point Energy, LLC.

Description: Tariff Cancellation: Notice of Cancellation to be effective 6/27/2017.

Filed Date: 6/26/17.

Accession Number: 20170626-5133.

Comments Due: 5 p.m. ET 7/17/17.

Docket Numbers: ER17-1903-000.

Applicants: Dynegy Conesville, LLC.

Description: Tariff Cancellation: Notice of Cancellation to be effective 6/27/2017.

Filed Date: 6/26/17.

Accession Number: 20170626-5140.

Comments Due: 5 p.m. ET 7/17/17.

Docket Numbers: ER17-1904-000.

Applicants: Southwest Power Pool, Inc.

Description: § 205(d) Rate Filing: 2065R3 Westar Energy, Inc. NITSA and NOA to be effective 6/1/2017.

Filed Date: 6/26/17.

Accession Number: 20170626-5145.

Comments Due: 5 p.m. ET 7/17/17.

Docket Numbers: ER17-1905-000.

Applicants: PJM Interconnection, L.L.C.

Description: § 205(d) Rate Filing: Original Service Agreement No. 4737; Queue Position AC1-025 (WMPA) to be effective 5/31/2017.

Filed Date: 6/26/17.

Accession Number: 20170626-5146.

Comments Due: 5 p.m. ET 7/17/17.

Docket Numbers: ER17-1906-000.

Applicants: Lake Road Generating Company, LLC.

Description: Compliance filing: Notice of Succession and Revisions to Market-Based Rate Tariff to be effective 6/27/2017.

Filed Date: 6/26/17.

Accession Number: 20170626-5147.

Comments Due: 5 p.m. ET 7/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2017.
Nathaniel J. Davis, Sr.,
Deputy Secretary.

[FR Doc. 2017-13967 Filed 6-30-17; 8:45 am]

BILLING CODE 6717-01-P